DEPARTMENT OF TRANSPORTATION

Federal Aviation Administration

14 CFR Part 97

[Docket No. 31217; Amdt. No. 3821]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 29, 2018. The compliance date for each SIAP, associated Takeoff Minimums, and ODP is specified in the amendatory provisions.

The incorporation by reference of certain publications listed in the regulations is approved by the Director of the Federal Register as of October 29, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic control, airports, Incorporation by reference, Navigation (Air).

Issued in Washington, DC, on October 5, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 8 November 2018

Noatak, AK, Noatak, NDB/DME RWY 1, Amdt 2, CANCELED

Noatak, AK, Noatak, RNAV (GPS) RWY 1, Orig

Noatak, AK, Noatak, RNAV (GPS) RWY 19, Orig

Noatak, AK, Noatak, Takeoff Minimums and Obstacle DP, Amdt 2

Nome, AK, Nome, ILS Y OR LOC Y RWY 28, Amdt 4B

Perryville, AK, Perryville, CILAC THREE, Graphic DP

Perryville, AK, Perryville, RNAV (GPS) RWY 2, Amdt 1

Perryville, AK, Perryville, Takeoff Minimums and Obstacle DP, Amdt 2

Casa Grande, AZ, Casa Grande Muni, ILS OR LOC RWY 5, Amdt 7A

Grass Valley, CA, Nevada County, RNAV (GPS) RWY 7, Orig-B

Monterey, CA, Monterey Rgnl, ILS OR LOC RWY 10R, Amdt 29

Mountain View, CA, Moffett Federal AFLD, RNAV (GPS) RWY 32L, Orig-A

San Francisco, CA, San Francisco Intl, ILS OR LOC RWY 28L, ILS RWY 28L (SA CAT II), Amdt 27

Fort Myers, FL, Page Field, Takeoff Minimums and Obstacle DP, Amdt 5A

Pompano Beach, FL, Pompano Beach Airpark, LOC RWY 15, Amdt 5

Pompano Beach, FL, Pompano Beach Airpark, RNAV (GPS) RWY 33, Amdt 1A

Atlanta, GA, Fulton County Airport-Brown Field, Takeoff Minimums and Obstacle DP, Amdt 8

Hazlehurst, GA, Hazlehurst, NDB RWY 14, Amdt 5

Hazlehurst, GA, Hazlehurst, RNAV (GPS) RWY 14, Amdt 1

Pittsfield, IL, Pittsfield Penstone Muni, VOR RWY 13, Amdt 4A

Richmond, IN, Richmond Muni, ILS OR LOC RWY 24, Amdt 2

Richmond, IN, Richmond Muni, RNAV (GPS) RWY 6, Amdt 1

Richmond, IN, Richmond Muni, RNAV (GPS) RWY 24, Amdt 1

Richmond, IN, Richmond Muni, RNAV (GPS) RWY 33, Amdt 1

Oscoda, MI, Oscoda-Wurtsmith, ILS OR LOC RWY 25, Amdt 4

Oscoda, MI, Oscoda-Wurtsmith, RNAV (GPS) RWY 7, Amdt 1A

Oscoda, MI, Oscoda-Wurtsmith, RNAV (GPS) RWY 25, Orig-A

Oscoda, MI, Oscoda-Wurtsmith, Takeoff Minimums and Obstacle DP, Orig-A

Oscoda, MI, Oscoda-Wurtsmith, VOR RWY 6, Amdt 1, CANCELED

Maple Lake, MN, Maple Lake Muni, RNAV (GPS) RWY 28, Orig-B, CANCELED

Thief River Falls, MN, Thief River Falls Rgnl, ILS OR LOC RWY 31, Amdt 5

Sikeston, MO, Sikeston Memorial Muni, RNAV (GPS) RWY 3, Amdt 2

Sikeston, MO, Sikeston Memorial Muni, RNAV (GPS) RWY 21, Amdt 3

Sikeston, MO, Sikeston Memorial Muni, VOR RWY 20, Amdt 4A, CANCELED

Tupelo, MS, Tupelo Rgnl, COPTER VOR 023, Orig-A

Tupelo, MS, Tupelo Rgnl, VOR RWY 18, Amdt 1B

Mount Airy, NC, Mount Airy/Surry County, RNAV (GPS) RWY 18, Amdt 1

Mount Airy, NC, Mount Airy/Surry County, RNAV (GPS) RWY 36, Amdt 1

Raleigh/Durham, NC, Raleigh-Durham Intl, ILS OR LOC RWY 5R, ILS RWY 5R SA CAT I, ILS RWY 5R SA CAT II, Amdt 30

Wilson, NC, Wilson Industrial Air Center, RNAV (GPS) RWY 3, Amdt 2

Wilson, NC, Wilson Industrial Air Center, RNAV (GPS) RWY 21, Amdt 1

Wilson, NC, Wilson Industrial Air Center, Takeoff Minimums and Obstacle DP, Amdt 1

Glen Ullin, ND, Glen Ullin Rgnl, RNAV (GPS) RWY 29, Orig

Glen Ullin, ND, Glen Ullin Rgnl, Takeoff Minimums and Obstacle DP, Orig

Buffalo, NY, Buffalo Niagara Intl, RNAV (GPS) RWY 14, Amdt 2B

Cleveland, OH, Cuyahoga County, ILS OR LOC RWY 24, Amdt 16

Cleveland, OH, Cuyahoga County, RNAV (GPS) RWY 6, Amdt 2

Cleveland, OH, Cuyahoga County, RNAV (GPS) RWY 24, Amdt 2

Cleveland, OH, Cuyahoga County, Takeoff Minimums and Obstacle DP, Amdt 2

Salem, OR, McNary Fld, RNAV (GPS) RWY 13, Orig

Waynesburg, PA, Greene County, COPTER RNAV (GPS) RWY 9, Orig-A

Columbia, SC, Columbia Metropolitan, ILS OR LOC RWY 5, Amdt 1E

Spearfish, SD, Black Hills-Clyde Ice Field, SWUNG ONE, Graphic DP

Dallas, TX, Dallas Executive, ILS OR LOC RWY 31, Amdt 9

Dallas, TX, Dallas Executive, RNAV (GPS) RWY 31, Amdt 1

Burlington, VT, Burlington Intl, RNAV (GPS) RWY 15, Amdt 1B

Burlington, VT, Burlington Intl, RNAV (GPS) Y RWY 33, Orig-B

Burlington, VT, Burlington Intl, VOR RWY 1, Orig-A

Rutland, VT, Rutland—Southern Vermont Rgnl, ILS Y OR LOC Y RWY 19, Amdt 1

Rutland, VT, Rutland—Southern Vermont Rgnl, ILS Z OR LOC Z RWY 19, Amdt 1

Rutland, VT, Rutland—Southern Vermont Rgnl, RNAV (GPS) Y RWY 19, Amdt 3

Rutland, VT, Rutland—Southern Vermont Rgnl, RNAV (GPS) Z RWY 19, Amdt 1

Rutland, VT, Rutland—Southern Vermont Rgnl, VOR/DME RWY 1, Amdt 1A, CANCELED

Puyallup, WA, Pierce County—Thun Field, Takeoff Minimums and Obstacle DP, Amdt 3

Fort Atkinson, WI, Fort Atkinson Muni, VOR-A, Amdt 1

Racine, WI, Batten Intl, ILS OR LOC RWY 4, Amdt 6

Rescinded: On September 11, 2018 (83 FR 45822), the FAA published an Amendment in Docket No. 31211, Amdt No. 3815, to Part 97 of the Federal Aviation Regulations under section 97.20, and 97.37. The following entries for Brevig Mission, AK, effective November 8, 2018, are hereby rescinded in their entirety:

Brevig Mission, AK, Brevig Mission, BREVIG TWO, Graphic DP

Brevig Mission, AK, Brevig Mission, Takeoff Minimums and Obstacle DP, Orig-A

Rescinded: On September 25, 2018 (83 FR 48368), the FAA published an Amendment in Docket No. 31213, Amdt No. 3817, to Part 97 of the Federal Aviation Regulations under section 97.33, and 97.37. The following entries for Reedley, CA, effective November 8, 2018, are hereby rescinded in their entirety:

Reedley, CA, Reedley Muni, RNAV (GPS) RWY 16, Orig

Reedley, CA, Reedley Muni, RNAV (GPS) RWY 34, Orig

Reedley, CA, Reedley Muni, Takeoff Minimums and Obstacle DP, Orig

[FR Doc. 2018-23143 Filed 10-26-18; 8:45 am]

BILLING CODE 4910-13-P